DEPARTMENT OF ENERGY

Federal Energy Regulatory Commission

[Docket No. CP08-451-000]

ANR Pipeline Company; Notice of Request Under Blanket Authorization

August 8, 2008.

Take notice that on August 1, 2008, ANR Pipeline Company (ANR), 717 Texas Street, Houston, Texas 77002, filed in Docket No. CP08-451-000, a prior notice request pursuant to sections 157.205, 157.208, and 157.212 of the Federal Energy Regulatory Commission's regulations under the Natural Gas Act for authorization to construct, own, and operate an interconnect with Kinder Morgan Louisiana Pipeline LLC (KMLP) to receive revaporized liquefied natural gas (LNG), all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

Specifically, ANR proposes to construct and install a new interconnect on ANR's 24-inch 503 line, to receive LNG from KMLP that directly connects to the Cheniere Sabine Pass LNG terminal, located in Cameron Parish, Louisiana. ANR will construct one sixteen-inch tap and valve, one sixteen-inch check valve, one sixteen-inch block valve, approximately 75-feet of 16-inch interconnecting pipe, over-pressure equipment, communications, and electronic gas measurement (EGM). ANR estimates the cost of construction to be $414,000, with all costs associated with such facilities to be reimbursed by KMLP. ANR states that the addition of the proposed interconnect will have no significant impact on ANR's peak day or annual deliveries. KMLP will construct, own, and operate the meter station, and will be designed for flow capability of up to 200 MMcf/d.

Any questions regarding the application should be directed to Dean Ferguson, Vice President, Marketing and Business Development, ANR Pipeline Company, 717 Texas Street, Houston, Texas 77002, or call (832) 320-5503, fax (832) 320-6503, or e-mail dean_ferguson@transcanada.com.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the Natural Gas Act (NGA) (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the internet in lieu of paper. See 18 CFR 385.2001(a)(1)(iii) and the instructions on the Commission's Web site (www.ferc.gov) under the “e-Filing” link.

Kimberly D. Bose,
Secretary.

.

[FR Doc. E8-18993 Filed 8-15-08; 8:45 am]

BILLING CODE 6717-01-P